SMALL BUSINESS ADMINISTRATION

[Disaster Declaration #15399 and #15400; MISSISSIPPI Disaster Number MS-00104]

Presidential Declaration Amendment of a Major Disaster for Public Assistance Only for the State of Mississippi

AGENCY: U.S. Small Business Administration.

ACTION: Amendment 1.

SUMMARY: This is an amendment of the presidential declaration of a major disaster for public assistance only for the state of Mississippi (FEMA-4350-DR), dated 11/22/2017.

Incident: Hurricane Nate.

Incident Period: 10/06/2017 through 10/10/2017.

DATES: Issued on 01/02/2018.

Physical Loan Application Deadline Date: 01/22/2018.

Economic Injury (EIDL) Loan Application Deadline Date: 08/22/2018.

ADDRESSES: Submit completed loan applications to: U.S. Small Business Administration, Processing and Disbursement Center, 14925 Kingsport Road, Fort Worth, TX 76155.

FOR FURTHER INFORMATION CONTACT:

A. Escobar, Office of Disaster Assistance, U.S. Small Business Administration, 409 3rd Street SW, Suite 6050, Washington, DC 20416, (202) 205-6734.

SUPPLEMENTARY INFORMATION: The notice of the President's major disaster declaration for Private Non-Profit organizations in the State of Mississippi, dated 11/22/2017, is hereby amended to include the following areas as adversely affected by the disaster.

Primary Counties: Hancock

All other information in the original declaration remains unchanged.

(Catalog of Federal Domestic Assistance Number 59008)

Jerome Edwards,
Acting Associate Administrator for Disaster Assistance.

[FR Doc. 2018-00366 Filed 1-10-18; 8:45 am]

BILLING CODE 8025-01-P